DEPARTMENT OF THE INTERIOR

Bureau of Land Management

[LLCO956000 L14200000.BJ0000]

Notice of Filing of Plats of Survey; Colorado

AGENCY: Bureau of Land Management, Interior.

ACTION: Notice of Filing of Plats of Survey; Colorado.

SUMMARY: On Thursday, October 6, 2011, the Bureau of Land Management (BLM) Colorado State Office, published a Notice of Stay of Filing of Plats, in the Federal Register (76 FR 62088) to inform the public of a stay on the proposed filing of the dependent resurvey and surveys in Township 9 South, Range 93 West, Sixth Principal Meridian, Colorado, accepted on August 5, 2010, pending consideration of the protest and/or appeal that was filed. With the settlement agreement of September 26, 2013, the BLM Colorado State Office is publishing this notice to inform the public of the intent to officially file the survey plat and afford a proper period of time to protest this action prior to the plat filing. During this time, the plat will be available for review in the BLM Colorado State Office.

DATES: Unless there are protests of this action, the filing of the plat described in this notice will happen on December 2, 2013.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

Randy Bloom,
Chief Cadastral Surveyor for Colorado.

[FR Doc. 2013-26060 Filed 10-31-13; 8:45 am]

BILLING CODE 4310-JB-P